DEPARTMENT OF TRANSPORTATION

Federal Highway Administration

Supplemental Environmental Impact Statement, Jefferson County, West Virginia

AGENCY: Federal Highway Administration (FHWA), DOT.

ACTION: Notice of intent to prepare a supplemental environmental impact statement.

SUMMARY: In accordance with the National Environmental Policy Act of 1969, as amended (NEPA), the US Department of Transportation, Federal Highway Administration (FHWA), intends to prepare a Supplemental Draft Environmental Impact Statement (SDEIS) and Supplemental Draft Section 4(f) Evaluation for proposed improvements to US Route 340 in Jefferson County, West Virginia.

DATES: To ensure that a full range of issues related to the proposed action are addressed and all significant issues identified, comments and suggestions are invited from all interested parties. Comments and suggestions concerning the proposed action and the SDEIS should be submitted to FHWA or West Virginia Department of Transportation, Division of Highways (WVDOH) at the address below or through the WVDOH's Web site at www.transportation.wv.gov within 30 days to ensure timely consideration.

FOR FURTHER INFORMATION CONTACT: Jason Workman, Director, Office of Program Development, Federal Highway Administration, 700 Washington Street, E., Charleston, WV 25301; telephone: (304) 347-5928; email: jason.workman@dot.gov or Ben Hark, Environmental Section Head, Engineering Division, WVDOH, State Capitol Complex, Building 5, 1900 Kanawha Boulevard, East, Charleston, WV 26305; telephone: (304) 558-2885; email: ben.l.hark@wv.gov.

SUPPLEMENTARY INFORMATION:

1. Description of the Proposed Action—The FHWA, in cooperation with the WVDOH, will prepare a SDEIS for the US 340 Improvement Project in Jefferson County, West Virginia. The proposed limits extend from the existing four-lane section of US 340 southwest of the Virginia/West Virginia state line to the existing four lane section of the Charles Town Bypass (US 340) south of Charles Town, West Virginia, approximately two miles north of the community of Rippon. The total length of the proposed project is approximately four miles.

2. Alternatives—Alternatives under consideration in the SDEIS will include: (1) Taking no action, and (2) constructing a four-lane, partially controlled access highway on new location. Various alignment alternatives will be evaluated to address land use changes that have occurred since the DEIS was prepared. Effects of these new build alternatives on the human and natural environment will be analyzed and documented, based on the results of new preliminary engineering studies and public and agency comments.

3. Scoping and Review Process—A notice of intent announcing the preparation of an environmental impact statement was published in the Federal Register on February 9, 1996. A Draft Environmental Impact Statement (DEIS) and Draft Section 4(f) Evaluation was approved by FHWA for the proposed project in November 2001 (Federal Project NH-0340(030). A SDEIS is now needed because of the length of time that has elapsed since the DEIS was approved and because of changes in land usage in the project area during that time.

As part of the earlier study, a formal scoping process was carried out. The results of that process will be reviewed and updated through coordination with the appropriate jurisdictional agencies. In addition, a Purpose and Need report was prepared for the proposed project. The purpose of the proposed project is to address safety deficiencies along the two-lane section of US 340 and to improve system linkage between the existing four-lane segments of US 340 north and south of the two-lane project segment. The 2001 DEIS documented that a highway improvement on new alignment was the most effective way of achieving the purposes of the proposed action. Several new alignment build alternates were developed and compared to the no-build alternative during the development of the DEIS.

4. Significant Issues—Based on preliminary information, the issues to be analyzed in the SDEIS are likely to include, but are not limited to, the effects to above ground and buried Historic Properties; effects on threatened and endangered species, surface water and groundwater resources, including aquatic habitat, water quality and wetlands; effects on the immediate and adjacent property owners and nearby communities; effects on socioeconomics and land use; transportation impacts; and cumulative and secondary effects.

5. Additional Review and Consultation—The SDEIS will comply with other Federal and State requirements including, but not limited to, the Moving Ahead for Progress in the 21st Century (MAP-21); Section 404 of the Clean Water Act (CWA) State water quality certification under Section 401 of the CWA; protection of water quality under the West Virginia/National Pollutant Discharge Elimination System; protection of air quality under the West Virginia Air Pollution Control Act; protection of endangered and threatened species under Section 7 of the Endangered Species Act (ESA); and protection of cultural resources under Section 106 of the National Historic Preservation Act (NHPA).

6. Availability of the SDEIS—A SDEIS will be available for public review and comment. Individuals interested in obtaining a copy of the SDEIS for review should contact the FHWA or WVDOH. A workshop public hearing will be held during the SDEIS review period. Public notice will be given of the times and places for the hearing. Comments will also be accepted through the WVDOH Web site at the URL provided above.

Authority: 23 U.S.C. 315; 49 CFR 1.48.

(Catalog of Federal Domestic Assistance Program Number 20.205, Highway Planning and Construction. The regulations implementing Executive Order 12372 regarding intergovernmental consultation on Federal programs and activities apply to this program.)

Issued on: January 6, 2014.
Thomas J. Smith,
Division Administrator, Federal Highway Administration, Charleston, West Virginia.

[FR Doc. 2014-00455 Filed 1-13-14; 8:45 am]

BILLING CODE 4910-22-P